DEPARTMENT OF THE INTERIOR

Bureau of Land Management

[LLNV0100000 L10600000.JJ0000 LXSS130F0000 241A; 10-08807; MO#4500013593; TAS: 14X1109]

Notice of Temporary Closures on Public Lands in Northwestern Elko County, NV

AGENCY: Bureau of Land Management, Interior.

ACTION: Notice of Temporary Closures.

SUMMARY: Notice is hereby given that temporary closures to public access, use, and occupancy will be in effect for the dates and times specified in this Notice on public lands administered by the Bureau of Land Management (BLM), Tuscarora Field Office, Elko, Nevada within the Owyhee, Rock Creek, and Little Humboldt Wild Horse Herd Management Areas (HMAs) in the northwestern portion of Elko County, Nevada.

DATES: This temporary closure will be in effect on the Owyhee, Rock Creek and Little Humboldt Wild Horse HMAs from 12:01 a.m. PST on Tuesday, July 6, 2010 until Saturday, July 31, 2010 at 11:59 p.m. PST, or up to 30 days after the start of the gather operation.

ADDRESSES: Tuscarora Field Office, 3900 E. Idaho Street, Elko, Nevada 89801; Web site: http://www.blm.gov/nv/st/en/fo/elko_field_office.html.

FOR FURTHER INFORMATION CONTACT: David Overcast, Tuscarora Field Manager, 775-753-0320. Persons who use a telecommunications device for the deaf (TDD) may call the Federal Information Relay Service (FIRS) at 1-800-877-8339 to contact the above individuals during normal business hours. The FIRS is available 24 hours a day, seven days a week, to leave a message or question with the above individuals. You will receive a reply during normal hours.

SUPPLEMENTARY INFORMATION: This temporary closure affects public land in the Owyhee, Rock Creek and Little Humboldt Wild Horse HMAs in Elko County, Nevada. The legal description of the affected public lands is:

Mount Diablo Meridian, Nevada

T. 45 N., R. 48 E.,

secs. 11, 13, and 14,

sec. 24, NE¼, N½NW¼, SW¼NW¼, NW¼SW¼, S½SW¼, NE¼SE¼, and SW¼SE¼;

sec. 25, NW¼, E½SE¼, and SW¼SE¼;

sec. 35, NE¼NE¼, W½NE¼, W½, and W½SE¼;

sec. 36, E½, SE¼NW¼, and E½SW¼.

T. 45 N., R. 49 E.,

secs. 19, 20, and 29 to 32, inclusive.

T. 44 N., R. 48 E.,

sec. 2, NW¼NE¼, W½, and E½SE¼;

sec. 11, NE¼NE¼, W½, and W½SE¼;

sec. 13;

sec. 14, W½NE¼, SE¼NE¼, NW¼, and S½;

sec. 24, NE¼NE¼, W½NE¼, W½, and SE¼.

T. 44 N., R. 49 E.,

sec. 19, NE¼, N½NW¼, SE¼NW¼, SW¼SW¼, N½SE¼, and SE¼SE¼.

T. 43 N., R. 50 E.,

sec. 27, NE¼NE¼, SW¼NE¼, W½SE¼;

sec. 28;

sec. 29, NE¼NE¼, S½NE¼, N½SE¼, and SE¼SE¼;

secs. 30 and 31;

sec. 32, E½NE¼ and E½SE¼;

secs. 33 and 34.

T. 42 N., R. 50 E.,

secs. 3, and 4;

sec. 5, E½NE¼, E½SE¼, and SW¼SE¼;

sec. 6, NW¼NE¼ and NW¼;

sec. 19, E½, SE¼NW¼, NE¼SW¼, and S½SW¼;

sec. 20, E½;

sec. 29, NE¼, SE¼NW¼, NW¼SW¼, S½SW¼, and NE¼SE¼;

sec. 30.

T. 42 N., R. 49 E.,

sec. 33, NW¼NE¼, NW¼, NE¼SW¼, W½SW¼, and E½SE¼.

T. 41 N., R. 49 E.,

sec. 4, NW¼NE¼, S½NE¼, NW¼NW¼, and SE¼;

sec. 9, NE¼ and E½SE¼.

T. 41 N., R. 48 E.,

secs. 6, 7, and 18.

T. 41 N., R. 47 E.,

secs. 1, 12, and 13.

T. 40 N., R. 48 E.,

sec. 27, N½ and SE¼;

sec. 28, W½;

sec. 29, NE¼, NE¼NW¼, SW¼NW¼, NW¼SW¼, S½SW¼, N½SE¼, and SE¼SE¼;

sec. 32, N½NW¼, SE¼SW¼, and S½SE¼.

The temporary closure areas encompass 26,813 acres, more or less.

This temporary closure will limit public access to protect persons, property, public lands and public land resources. The closure will ensure the safety and welfare of the public, contractors, and government employees, and provide for the orderly implementation of authorized actions to gather excess wild horses. The temporary closure will prevent public access, use, and occupancy during wild horse capture operations scheduled to occur between July 6, 2010, and July 31, 2010.

Not all subject lands will be temporarily closed during the entire period. Areas temporarily closed to public access will be posted at main entry points with signs, barricades, if appropriate, and copies of this temporary closure notice. The sites identified for temporary closures are historically used gather sites and holding locations. Some of the sites are on public land and some are on privately owned land. The temporary closures will be in effect only on public lands. The public will be authorized to use those areas where capture operations are not in progress. Areas from which the public will be temporarily excluded will be dependent upon the actual area of operation which will vary according to the needs of the contractor. The gather operation includes the authorized use of low-flying aircraft to herd and capture wild horses from various portions of the Owyhee, Rock Creek and Little Humboldt Wild Horse HMAs and adjacent public and private lands outside of the established boundaries of the identified HMAs. In order to operate the aircraft in a safe and effective manner, and based on experience gained from previous gathers, it is necessary to temporarily close the affected areas (gathering and temporary holding facilities) to all public use during actual capture operations. It is anticipated that the gather operation will take approximately 15-20 days, but could last up to 26 days depending on weather, location of herds, success of capture operations, and other variable conditions. Maps of the affected area and other documents associated with this temporary closure are available at the Tuscarora Field Office, 3900 E. Idaho Street, Elko, NV 89801 and at the BLM Elko Web site at http://www.blm.gov/nv/st/en/fo/elko_field_office.html.

Horses will be held temporarily in holding facilities on public lands within the Owyhee, Rock Creek and Little Humboldt HMAs and on adjacent private lands until July 31, 2010, for day-to-day care, veterinary treatment, and preparation for transport to BLM adoption preparation and holding facilities in Nevada and Utah.

The temporary closures may be rescinded prior to July 31, 2010, if gather operations are successfully completed before that date. On specifically scheduled and escorted visitation days, the public and media will be allowed to view the gather operations as well as the horses being temporarily held prior to release or being transported to BLM adoption preparation and holding facilities.

Further information may be obtained from the Owyhee, Rock Creek, and Little Humboldt Herd Management Areas Gather Plan and Environmental Assessment, DOI-BLM-NV-N020-2010-0014. The document also is available from the Field Manager, Tuscarora Field Office, 3900 E. Idaho Street, Elko, NV 89801, and is available on the BLM Elko District Web site at http://www.blm.gov/nv/st/en/fo/elko_field_office.html. This Notice will be posted in the local BLM office with jurisdiction over the lands to which the order applies (43 CFR 8364.1(b)(5)).

Penalties: In accordance with Section 303(a) of the Federal Land Policy and Management Act of 1976 (43 U.S.C. 1733(a)) and 43 CFR 8360.0-7, the BLM will enforce the temporary closures on public lands in Northwestern Elko County, Nevada.

The following persons are exempt from this temporary closure: Federal, state, and local officers and employees in the performance of their official duties; members of organized rescue or fire-fighting forces in the performance of their official duties; and persons with written authorization from the BLM.

A person who violates the above order may be tried before a United States Magistrate and fined no more than $1,000, imprisoned for no more than 12 months, or both. Such violations may also be subject to the enhanced fines provided for by 18 U.S.C. 3571.

Kenneth E. Miller,
District Manager, Elko.

[FR Doc. 2010-16911 Filed 7-9-10; 8:45 am]

BILLING CODE 4310-HC-P